Title 3—

The President

Executive Order 14050 of October 19, 2021

White House Initiative on Advancing Educational Equity, Excellence, and Economic Opportunity for Black Americans

By the authority vested in me as President by the Constitution and the laws of the United States of America, it is hereby ordered as follows:

Section 1. Policy. Educational opportunity is a fundamental element of the American promise. The United States Supreme Court recognized in 1954 in Brown v. Board of Education that education “is a right which must be made available to all on equal terms.” In the decades since, our Nation has made progress in advancing equality and fairness in our schools, and the achievements, talents, and tenacity of Black students, educators, families, and scholars make our Nation's schools and communities stronger for all Americans. Black students are thriving in schools across the country, inside the classroom—as valedictorians and award-winning scientists—and outside of it, including in debate, athletics, student government, and national spelling bees, among many other areas.

Over the course of America's history, Black Americans have helped to build, strengthen, and lead our Nation towards becoming a more perfect Union. Although for far too long, Black Americans were denied even the most basic access to education, the vital contributions of Black Americans in the fields of science, academia, business, and public service, among others, are a testament to the resilience of Black Americans and the steps our Nation has taken to expand access to education and opportunity.

In spite of this progress, entrenched disparities continue to plague America's education system, holding far too many Black students back from achieving their full potential. Because of persistent racial and systemic injustices in our Nation, Black students remain more likely to attend high-poverty and racially segregated schools than White students. Black students are inequitably disciplined and suspended from school at disproportionately higher rates than White students for similar offenses. In addition, Black students too often face limited access to advanced and college-preparatory courses. Systemic racial disparities in education negatively impact learning outcomes for Black students and many face persistent gaps in reading and mathematics achievement. Studies show that school districts with high concentrations of Black students are much more likely to be underfunded than districts where a majority of students are White, and face much wider funding gaps, with an average deficit of more than $5,000 per student. Black students are still below the national average for educational attainment in high school, and that gap is even higher for college attainment rates, as 26 percent of Black Americans ages 25 and older have attained a bachelor's degree, while the national average is 36 percent. Black students also face unique challenges at the intersection of race and gender. Barriers to equity in education can compound for Black students who are also LGBTQ+ students, English-language learners, Dreamers, or students with disabilities.

These disparities result in long-standing college and postsecondary educational attainment gaps that affect life outcomes and access to opportunities. Although student populations are becoming increasingly diverse, Black teachers remain significantly underrepresented in our Nation's classrooms. Educational inequities have only widened throughout the COVID-19 pandemic, as Black students are more likely to experience remote learning challenges and greater learning loss as compared to their White peers. The persistent digital divide faced by some Black students has contributed to this disparity. It is a priority of my Administration to ensure an equitable recovery from COVID-19, and to provide all students with a successful return to the classroom.

In the face of these historic and present-day inequities in our Nation's schools, Black students continue to persevere. Black students and scholars today are breaking the barriers confronted by generations who came before. Our Nation's schools and communities are irrefutably strengthened by the success, scholarship, and tenacity of Black students of all ages. But our Nation must go further to finally root out systemic barriers in our schools.

Additionally, these barriers are present not just in the classroom, but also in the workplace. Black Americans face systemic obstacles to getting good jobs, gaps in wages and promotion, and higher incidences of reported workplace discrimination than White workers. Eliminating these inequities requires expanding access to work-based learning and leadership opportunities, including mentorships, sponsorships, internships, and registered apprenticeships that provide not only career guidance, but also the experience needed to navigate and excel in successful careers. In order for our Nation to equitably recover from the COVID-19 crisis, and to ensure that every Black person in America has a fair shot at the American dream, we must advance equity and excellence in public education and access to economic opportunities.

It is the policy of my Administration to advance educational equity, excellence, and economic opportunity for Black Americans and communities from early childhood until their chosen career.

Sec. 2. White House Initiative on Advancing Educational Equity, Excellence, and Economic Opportunity for Black Americans. (a) To advance equity in our Nation's schools and to promote the economic opportunity that follows it, there is established in the Department of Education (Department) the White House Initiative on Advancing Educational Equity, Excellence, and Economic Opportunity for Black Americans (Initiative), of which the Secretary of Education (Secretary) shall serve as Chair. The Secretary shall designate an Executive Director for the Initiative (Executive Director).

(b) The Initiative shall advance educational equity and economic opportunity for Black students, families, and communities by focusing on the following policy goals:

(i) increasing general understanding of systemic causes of educational challenges faced by many Black students, whether these students are in urban, suburban, rural, or migrant learning environments, and working across executive departments and agencies (agencies) to address these challenges;

(ii) increasing Black children's and families' access to and participation in high-quality early childhood programs and services that promote children's healthy development and learning, prepare them for success in school, and affirm their cultural identity;

(iii) addressing the inequitable treatment of Black children, such as eradicating discriminatory referrals to special education and excessive disciplinary actions;

(iv) supporting and improving data collection related to Black students and the implementation of evidence-based strategies to increase the participation and success of Black students in all levels of education and prepare them for careers and civic engagement;

(v) ensuring that all Black students have access to excellent teachers, school leaders, and other professionals, including by supporting efforts to improve the recruitment, preparation, development, and retention of qualified, diverse teachers and school leaders and other professionals who understand students' lived experiences and can effectively meet their learning, social, and emotional needs;

(vi) enhancing student support services and fostering positive engagement among schools, families, community leaders, and community-based organizations to increase the high school graduation and post-secondary attendance rates and decrease the high school dropout rate for Black students;

(vii) promoting a positive school climate that supports equitable access to and participation in college-readiness, advanced placement courses, and internship opportunities, as well as innovative dropout prevention and recovery strategies that better engage Black youth in their learning, help them progress academically as needed, and provide those who have left the educational system with pathways to reentry;

(viii) eliminating discriminatory enrollment, housing, transportation, and other policies that lead to racial and socioeconomic segregation among and within schools;

(ix) ensuring equitable access to educational resources, professionals, and technology, including by addressing racial disparities in school funding and expenditures;

(x) breaking down barriers that impede the access of higher education institutions that serve Black students, such as Predominantly Black Institutions (PBIs) and Historically Black Colleges and Universities (HBCUs), to Federal funding, and strengthening the capacity of those institutions to participate in Federal programs and partnerships;

(xi) advancing racial equity and economic opportunity by connecting education to labor market needs through programs such as dual enrollment, career and technical education, registered apprenticeships, work-based learning, and career advancement, particularly in the fields of science, technology, engineering, and mathematics; and

(xii) ensuring that Black communities have access to resources for economic success, such as in the areas of financial education, small business development, entrepreneurship, arts, science, technology, engineering, and mathematics.

(c) In working to fulfill its mission and objectives, the Initiative shall, consistent with applicable law:

(i) identify and promote evidence-based best practices that can provide Black students with a rigorous and well-rounded education in safe and healthy environments, as well as access to support services, that will improve their educational, professional, economic, and civic opportunities;

(ii) advance and coordinate efforts to ensure equitable opportunities for Black students in the re-opening process for schools across the country, and take steps to ensure that Black students, from early childhood to post-secondary education, can equitably recover from learning losses and other challenges faced during the COVID-19 pandemic;

(iii) encourage and develop partnerships with a national network of early childhood and early intervention providers, schools, institutions of higher education, and other public, private, philanthropic, and nonprofit stakeholders to improve access to educational equity and economic opportunities for Black Americans;

(iv) monitor and support the development, implementation, and coordination of Federal Government educational, workforce, research, and business development policies, programs, and technical assistance designed to improve outcomes for historically underserved communities, including Black Americans;

(v) work closely with the Executive Office of the President on key Administration priorities related to education, equity, and economic opportunity for Black Americans; and

(vi) advise the Secretary on issues of importance to Black Americans and policies relating to educational equity, excellence, and economic opportunity for Black Americans.

(d) There is established a Federal Interagency Working Group, which shall be convened by the Executive Director and shall support the efforts of the Initiative. The Interagency Working Group shall collaborate regarding resources and opportunities available across the Federal Government to increase educational and economic opportunities for Black Americans.

(i) The Interagency Working Group shall consist of senior officials (designated by the heads of their respective departments, agencies, and offices) from the following:

(A) the Department of State;

(B) the Department of the Treasury;

(C) the Department of Defense;

(D) the Department of Justice;

(E) the Department of the Interior;

(F) the Department of Agriculture;

(G) the Department of Commerce;

(H) the Department of Labor;

(I) the Department of Health and Human Services;

(J) the Department of Housing and Urban Development;

(K) the Department of Transportation;

(L) the Department of Energy;

(M) the Department of Education;

(N) the Department of Veterans Affairs;

(O) the Department of Homeland Security;

(P) the White House Office of Management and Budget;

(Q) the White House Office of Science and Technology Policy;

(R) the Small Business Administration;

(S) the White House Domestic Policy Council;

(T) the White House Gender Policy Council;

(U) the White House Office of Public Engagement;

(V) the National Science Foundation;

(W) the National Aeronautics and Space Administration;

(X) the United States Agency for International Development; and

(Y) such additional executive departments, agencies, and offices as the Secretary may designate.

(ii) The Executive Director may establish subgroups of the Interagency Working Group to focus on different aspects of the educational system (such as PBIs and HBCUs, early childhood education, kindergarten through 12th grade education, children and adults with disabilities, teacher diversity, higher education, career and technical education, adult education, or correctional education and reengagement), economic opportunity (work-based learning, entrepreneurship, financial education, or mentorship), or educational challenges facing particular populations.

(e) Each agency designated to participate in the Interagency Working Group shall prepare a plan (Agency Plan) outlining measurable actions the agency will take to advance educational equity and economic opportunity for Black communities, including their plans to implement the policy goals and directives outlined in section 2(b) of this order and other relevant work. These plans shall be submitted to the Chair of the Initiative on a date established by the Chair.

(i) As appropriate, each Agency Plan shall include:

(A) a description of the applicable agency's efforts to ensure that Federal programs and initiatives administered by the Department and other agencies are meeting the educational needs of Black Americans, including efforts to incorporate best practices into appropriate discretionary programs where the agency sees fit and as permitted by law;

(B) a description of how the applicable agency has and will decrease barriers to participation of Black Americans in Federal employment and student engagement opportunities;

(C) a description of how the applicable agency can address challenges facing Black students and higher education institutions that serve Black students, such as PBIs and HBCUs, brought on by or exacerbated by the COVID-19 pandemic;

(D) a description of how the agency's Office of Civil Rights, if applicable, can address discriminatory policies and practices that limit educational and economic opportunity for Black Americans;

(E) any other information the applicable agency determines is relevant to promoting educational opportunities for Black Americans; and

(F) information addressing any additional criteria established by the Chair or the Initiative.

(ii) Each agency shall assess and report to the Chair on their progress in implementing the Agency Plan on a regular basis as established by the Chair.

(iii) The Initiative shall monitor and evaluate each agency's progress towards the goals established in its Agency Plan and shall coordinate with the agency to ensure that its Plan includes measurable and action-oriented goals.

(f) The Department shall provide funding and administrative support for the Initiative and the Interagency Working Group, to the extent permitted by law and within existing appropriations. To the extent permitted by law, including the Economy Act (31 U.S.C. 1535), other agencies and offices represented on the Interagency Working Group may detail personnel to the Initiative, to assist the Department in meeting the objectives of this order.

(g) To advance shared priorities and policies that advance equity and economic opportunity for underserved communities, the Initiative shall collaborate and coordinate with other White House Initiatives related to equity and opportunity.

(h) On an annual basis, the Chair shall report to the President on the Initiative's progress in carrying out its mission and function under this order.

Sec. 3. Presidential Advisory Commission. (a) There is established in the Department a Presidential Advisory Commission on Advancing Educational Equity, Excellence, and Economic Opportunity for Black Americans (Commission).

(b) The Commission shall provide advice to the President through the Secretary on matters pertaining to educational equity and economic opportunity for the Black community, including:

(i) what is needed for the development, implementation, and coordination of educational programs and initiatives at the Department and other agencies to improve educational opportunities and outcomes for Black Americans;

(ii) how to promote career pathways for in-demand jobs for Black students, including registered apprenticeships, internships, fellowships, mentorships, and work-based learning initiatives;

(iii) how to increase public awareness of and generate solutions for the educational and training challenges and equity disparities that Black Americans face and the causes of these challenges; and

(iv) approaches to establish local and national partnerships with public, private, philanthropic, and nonprofit stakeholders to advance the mission and objectives of this order, consistent with applicable law.

(c) The Commission shall periodically report to the President, through the Secretary and after consulting with the Executive Director, on progress in addressing the mission of the Commission.

(d) The Commission shall consist of not more than 21 members appointed by the President. The Commission may include individuals with relevant experience or subject matter expertise, as well as individuals who may serve as representatives from a variety of sectors, including education (early childhood education, elementary and secondary education, higher education, career and technical education, and adult education), labor organizations, research institutions, public and private philanthropic organizations, private sector, nonprofit, and community-based organizations at the national, State, Tribal, regional, or local levels. Commission members should be able to provide specific insight into the lived experiences of those served by the Initiative, including young adults, and have diversity across the Black diaspora and the geography of the country.

(i) The President shall designate one member of the Commission to serve as its Chair. The Chair, in consultation with the Executive Director, shall convene regular meetings of the Commission, determine the Commission meeting agenda, and support the work of the Commission, consistent with this order.

(ii) The Commission shall meet on a regular basis, and at least twice a year.

(e) The Department shall provide funding and administrative support for the Commission, to the extent permitted by law and within existing appropriations. Members of the Commission shall serve without compensation but shall be allowed travel expenses, including per diem in lieu of subsistence, as authorized by law for persons serving intermittently in the Government service (5 U.S.C. 5701-5707). Insofar as the Federal Advisory Committee Act, as amended (5 U.S.C. App.), may apply to the administration of the Commission, any functions of the President under that Act, except that of reporting to the Congress, shall be performed by the Secretary, in accordance with guidelines issued by the Administrator of General Services.

(f) The Commission shall terminate 2 years from the date of this order, unless extended by the President.

Sec. 4. Administrative Provisions. (a) This order supersedes Executive Order 13621 of July 26, 2012 (White House Initiative on Educational Excellence for African Americans), which is hereby revoked. To the extent that there are other Executive Orders that may conflict with or overlap with the provisions in this order, the provisions in this order supersede those other Executive Orders on these subjects.

(b) The heads of agencies shall assist and provide information to the Initiative and the Commission established in this order, consistent with applicable law, as may be necessary to carry out the functions of the Initiative and the Commission.

(c) Each agency shall bear its own expenses of participating in the Initiative established in this order.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

October 19, 2021.

[FR Doc. 2021-23224

Filed 10-21-21; 8:45 am]

Billing code 3395-F2-P